DEPARTMENT OF HOMELAND SECURITY

Federal Emergency Management Agency

Agency Information Collection Activities: Proposed Collection; Comment Request

AGENCY: Federal Emergency Management Agency, DHS.

ACTION: Notice and request for comments.

SUMMARY: The Federal Emergency Management Agency (FEMA), as part of its continuing effort to reduce paperwork and respondent burden, invites the general public and other Federal agencies to take this opportunity to comment on a proposed continuing information collection. In accordance with the Paperwork Reduction Act of 1995, this notice seeks comments concerning temporary housing units for disaster victims of federally declared disasters.

SUPPLEMENTARY INFORMATION: Public Law 93-288, as amended by Public Law 100-707, the Robert T. Stafford Disaster Relief and Emergency Assistance Act, section 408, authorizes FEMA to provide Temporary Housing Assistance. This type of assistance could be in form of mobile homes, travel trailers, or other readily fabricated dwellings. This assistance is used when required to provide disaster housing for victims of federally declared disasters. Accordingly the FEMA Form 90-1 is designed to ensure sites for temporary housing units that will accommodate the home and comply with local, State and Federal regulations regarding the placement of the temporary housing unit; FEMA Form 90-31, ensures that the landowner (if other than the recipient of the housing unit) will allow the temporary housing unit to be placed on the property; and ensure that routes on the ingress and egress to and from the property are maintained.

Collection of Information

Title: Request for Site Inspection; Landowners Authorization/Ingress-Egress Agreement.

Type of Information Collection: Revision of a currently approved collection.

OMB Number: 1660-0030.

Form Numbers: FEMA Form 90-1 (Request for Site Inspection) and FEMA Form 90-31 Landowners Authorization/Ingress-Egress Agreement.

Abstract: FEMA's Temporary Housing Assistance is used to provide mobile homes, travel trailers, or other forms of readily fabricated forms of housing for the purpose of providing temporary housing to eligible applicants or victims of federally declared disasters. This information is required to determine the feasibility of the site for installation of the housing unit and ensured written permission of the property owner is obtained to allow the housing unit on the property to include ingress and egress permission.

Affected Public: Individuals or Households.

Estimated Total Annual Burden Hours: 38,868.

Annual Burden Hours
Project/activity (survey, form(s), focus group, worksheet, etc.) | No. of respondents: (A) | Frequency of responses: (B) | Burden hours per respondent: (C) | Annual responses: (D) = (A×B) | Total annual burden hours: (E) = (C×D)
90-1 | 117,071 | 1 | 0.166 or (10 min) | 117,071 | 19,434
90-31 | 117,071 | 1 | 0.166 or (10 min) | 117,071 | 19,434
Total | 234,142 |  |  | 234,142 | 38,868

Estimated Cost: $107,664.36.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before July 9, 2007.

ADDRESSES: Interested persons should submit written comments to Chief, Records Management and Privacy Section, Information Resources Management Branch, Information Technology Services Division, Federal Emergency Management Agency, 500 C Street, SW., Room 609, Washington, DC 20472.

FOR FURTHER INFORMATION CONTACT: Contact Anthony Johnson, Program Specialist, Disaster Assistance Directorate, telephone number (202) 314-5536 for additional information. You may contact the Records Management Branch for copies of the proposed collection of information at facsimile number (202) 646-3347 or e-mail address: FEMA-Information-Collections@dhs.gov.

Dated: April 27, 2007.
John A. Sharetts-Sullivan,
Chief, Records Management and Privacy, Information Resources Management Branch, Information Technology Services Division, Federal Emergency Management Agency, Department of Homeland Security.

[FR Doc. E7-8749 Filed 5-7-07; 8:45 am]

BILLING CODE 9110-10-P